FEDERAL MEDIATION AND CONCILIATION SERVICE

Stakeholder Survey for Qualitative Feedback on Agency Service Delivery

AGENCY: Federal Mediation and Conciliation Service (FMCS).

ACTION: 30-Day notice and request for comments.

SUMMARY: The Federal Mediation and Conciliation Service (FMCS), invites the public and other Federal Agencies to take this opportunity to comment on the following information collection request, Stakeholder Survey for Qualitative Feedback on Agency Service Delivery. This information collection request will be submitted for approval to the Office of Management Budget (OMB) in compliance with the Paperwork Reduction Act (PRA). This collection was developed to improve the quality of service the Federal Mediation and Conciliation provides to clients.

DATES: Comments must be submitted on or before July 3, 2025.

ADDRESSES: You may submit comments, identified by Stakeholder Survey for Qualitative Feedback on Agency Service Delivery, through one of the following methods:

• Email: register@fmcs.gov;

• Mail: Office of the General Counsel, One Independence Square, 250 E Street SW, Washington, DC 20427.

FOR FURTHER INFORMATION CONTACT: Karen Pierce, 202-606-3672, Kpierce@fmcs.gov.

SUPPLEMENTARY INFORMATION: Copies of the agency questions are available at the following links:

• Collective Bargaining Mediation Survey Questions

• Grievance Mediation Survey Questions

• Relationship Development Facilitation Survey Questions

• Relationship Development and Training Survey Questions

I. 60-Day Comment Period

FMCS published a Federal Register notice, with a 60-day public comment period soliciting comments, of the following collection of information on March 14, 2025, 90 FR 12161. FMCS received no comments.

II. Request for Comments

FMCS solicits comments to:

i. Evaluate whether the proposed collections of information are necessary for the proper performance of the functions of the agency, including whether the information will have practical utility.

ii. Enhance the accuracy of the agency's estimates of the burden of the proposed collection of information.

iii. Enhance the quality, utility, and clarity of the information to be collected.

iv. Minimize the burden of the collections of information on those who are to respond, including the use of appropriate automated, electronic collection technologies or other forms of information technology.

III. Information Collection Request

Agency: Federal Mediation and Conciliation Service.

Title: Stakeholder Survey for Qualitative Feedback on Agency Service Delivery.

OMB Number: 3076-0017.

Type of Request: Revision of a currently approved collection.

Affected Public: Federal government and Private Sector, to include businesses or other for-profits and not-for-profit institutions, and State and local governments.

Frequency: Annually.

Burden: The total annual burden estimate is that FMCS will receive approximately 1,213 responses per year that will take about 3 minutes to complete.

Information Collection Requirement

Purpose and Description of Data Collection

This information collection provides a means to garner qualitative client and stakeholder feedback in an efficient, timely manner, in accordance with the Administration's commitment to improving service delivery. This feedback will provide insights into client or stakeholder perceptions, experiences, and expectations. The surveys will provide notice of issues with service, or focus attention on areas where communication, training or changes in operations might improve delivery of products or services.

Use of Results

The surveys are not statistical surveys that yield quantitative results that can be generalized to the population of study. These collections will allow for ongoing, collaborative, and actionable communication between the Agency and its clients and stakeholders. It will also allow feedback to contribute directly to improving program management. Responses will be assessed to plan and inform efforts to improve or maintain the quality of service offered to the public. Collecting this information is critical for ensuring quality service offered to the public.

IV. The Official Record

The official records are electronic records.

Dated: May 29, 2025.
Alisa Zimmerman,
Deputy General Counsel.

[FR Doc. 2025-10039 Filed 6-2-25; 8:45 am]

BILLING CODE 6732-01-P